DEPARTMENT OF HEALTH AND HUMAN SERVICES

Food and Drug Administration

[Docket Nos. FDA-2018-N-0215; FDA-2012-N-0248; FDA-2015-N-2126; FDA-2012-N-0280; FDA-2012-N-1093; FDA-2018-N-4130; and FDA-2011-N-0143]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: Ila S. Mizrachi, Office of Operations, Food and Drug Administration, Three White Flint North, 10A-12M, 11601 Landsdown St., North Bethesda, MD 20852, 301-796-7726, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at http://www.reginfo.gov/public/do/PRAMain. An Agency may not conduct or sponsor, and a person is not required to respond to, a collection of information unless it displays a currently valid OMB control number.

Table 1—List of Information Collections Approved by OMB
Title of collection | OMB control No. | Date approval expires
Healthcare Professional Survey of Professional Prescription Drug Promotion | 0910-0869 | 4/30/2020
Formal Dispute Resolutions; Appeals Above the Division Level | 0910-0430 | 3/31/2022
Food and Drug Administration's Research and Evaluation Survey for the Public Education Campaign on Tobacco Among LGBT (RESPECT) | 0910-0808 | 3/31/2022
Financial Disclosure by Clinical Investigators | 0910-0396 | 4/30/2022
Food Additive Petitions and Investigational Food Additive Exemptions | 0910-0546 | 4/30/2022
Recordkeeping Requirements for Microbiological Testing and Corrective Measures for Bottled Water | 0910-0658 | 4/30/2022
Foreign Supplier Verification Programs for Importers of Food for Humans and Animals | 0910-0752 | 4/30/2022

Dated: June 6, 2019.
Lowell J. Schiller,
Principal Associate Commissioner for Policy.

[FR Doc. 2019-12278 Filed 6-10-19; 8:45 am]

BILLING CODE 4164-01-P